DEPARTMENT OF THE INTERIOR

Bureau of Land Management

[SDM 100347]

Public Land Order No. 7838; Withdrawal of National Forest System Land Adjacent to Jewel Cave National Monument; South Dakota

AGENCY: Bureau of Land Management, Interior.

ACTION: Public Land Order.

SUMMARY: This order withdraws 2,387.22 acres of National Forest System land from location and entry under the United States mining laws for a period of 20 years on behalf of the United States Forest Service to protect the unique cave resources in the area adjacent to the Jewel Cave National Monument.

DATES: Effective Date: August 28, 2015.

FOR FURTHER INFORMATION CONTACT: Valerie Hunt, U.S. Forest Service, Region 2, 740 Simms Street, Golden, Colorado 80401, 303-275-5071, vbhunt@fs.fed.us, or Deborah Sorg, Bureau of Land Management, Montana State Office, 5001 Southgate Drive, Billings, Montana 59101, 406-896-5045, dsorg@blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The United States Forest Service is managing the land to protect the significant cave ecosystems located within the Black Hills National Forest adjacent to Jewel Cave National Monument.

Order

By virtue of the authority vested in the Secretary of the Interior by Section 204 of the Federal Land Policy and Management Act of 1976, 43 U.S.C. 1714, it is ordered as follows:

1. Subject to valid existing rights, the following described National Forest System land is hereby withdrawn from location and entry under the United States mining laws, but not from leasing under the mineral leasing laws, to protect the unique cave resources in the land adjacent to Jewel Cave National Monument:

Black Hills National Forest

Black Hills Meridian

T. 3 S., R. 2 E.,

Sec. 34, S½SW¼ and S½SE¼.

T. 4 S., R. 2 E.,

Sec. 2, lot 4, SW¼NW¼, SW¼ excluding that portion of the NE¼NE¼SW¼ east of U.S. Highway 16, and those portions of lot 3, SW¼NE¼, and SE¼NW¼ west of U.S. Highway 16;

Sec. 3, lots 1 to 4, inclusive, S½NE¼, S½NW¼, and S½;

Sec. 10, N½;

Sec. 11, N½;

Sec. 12, S½NE¼ and S½NW¼.

T. 4 S., R. 3 E.,

Sec. 6, lots 6 and 7, E½SW¼, and W½SE¼;

Sec. 7, lots 1 and 2, W½NE¼, and E½NW¼.

The area described contains 2,387.22 acres in Custer County.

2. The withdrawal made by this order does not alter the applicability of the public land laws other than the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: August 8, 2015.
Janice M. Schneider,
Assistant Secretary, Land and Minerals Management.

[FR Doc. 2015-21327 Filed 8-27-15; 8:45 am]

BILLING CODE 3411-15-P